NATIONAL CREDIT UNION ADMINISTRATION

Sunshine Act; Meeting

Time and Date: 10 a.m., Thursday, February 20, 2003.

Place: Board Room, 7th Floor Room 7047, 1775 Duke Street, Alexandria, VA 22314-3428.

Status: Open.

Matters To Be Considered: 1. Request from a Federal Credit Union to Convert to a Community Charter.

2. Proposed Rule: Part 709 of NCUA's Rules and Regulations, Addition to Swap Agreement to the Definition of a Qualified Financial Contract.

Recess: 11:15 am.

Time and Date: 11:30 a.m., Thursday, February 20, 2003.

Place: Board Room, 7th Floor, Room 7047, 1775 Duke Street, Alexandria, VA 22314-3428.

Status: Closed.

Matters To Be Considered: 1. Administrative Action under Section 205 of the Federal Credit Union Act. Closed pursuant to Exemptions (8), (9)(A)(ii), and (9)(B).

2. One (1) Insurance Appeal. Closed pursuant to Exemption (6).

FOR FURTHER INFORMATION CONTACT: Becky Baker, Secretary of the Board, Telephone: 703-518-6304.

Becky Baker,
Secretary of the Board.

[FR Doc. 03-4041 Filed 2-13-03; 4:08 pm]

BILLING CODE 7535-01-M